DEPARTMENT OF THE INTERIOR

National Park Service

CORRECTION-CORRECTION-Notice of Inventory Completion for Native American Human Remains and Associated Funerary Objects in the Possession of the Anthropological Studies Center, Archaeological Collections Facility, Sonoma State University, Rohnert Park, CA; and in the Control of the California Department of Transportation, Sacramento, CA

AGENCY: National Park Service.

ACTION: Notice.

Notice is hereby given in accordance with provisions of the Native American Graves Protection and Repatriation Act (NAGPRA), 43 CFR 10.9, of the completion of an inventory of human remains and associated funerary objects in the possession of the Anthropological Studies Center (ASC), Archaeological Collections Facility, Sonoma State University, Rohnert Park, CA; and in the control of the California Department of Transportation (CALTRANS), Sacramento, CA. This notice corrects the contact address of the Correction to the Notice of Inventory Completion published December 5, 2000. The correction paragraph of the December 5, 2000 notice is corrected as follows: This notice has been sent to the officials of the Santa Rosa Indian Community of the Santa Rosa Rancheria, California. Representatives of any other Indian tribe that believes itself to be culturally affiliated with these human remains should contact Tina Biorn, Environmental Program, Department of Transportation, P. O. Box 942874 (M.S. 27), Sacramento, CA 94274-0001, telephone (916) 653-0013, before August 16, 2000. Repatriation of the human remains to the Santa Rosa Indian Community of the Santa Rosa Rancheria, California may begin after that date if no additional claimants come forward.

Dated: January 19, 2001.
John Robbins,
Assistant Director, Cultural Resources Stewardship and Partnerships.

[FR Doc. 01-4009 Filed 2-15-01; 8:45 am]

BILLING CODE 4310-70-F